OFFICE OF PERSONNEL MANAGEMENT

Excepted Service

AGENCY: Office of Personnel Management (OPM).

ACTION: Notice.

SUMMARY: This notice identifies Schedule A, B, and C appointing authorities applicable to a single agency that were established or revoked from September 1, 2020 to September 30, 2020.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

75. Woodrow Wilson International Center for Scholars (Sch. A 213.3175)

(a) One Asian Studies Program Administrator, one International Security Studies Program Administrator, one Latin American Program Administrator, one Russian Studies Program Administrator, four Social Science Program Administrators, one Middle East Studies Program Administrator, one African Studies Program Administrator, one Global Sustainability and Resilience Program Administrator, one Canadian Studies Program Administrator; one China Studies Program Administrator, one Science, Technology and Innovation Program Administrator, and one Mexico Studies Program Administrator.

Schedule B

No Schedule B Authorities to report during September 2020.

Schedule C

The following Schedule C appointing authorities were approved during September 2020.

Agency name | Organization name | Position title | Authorization No. | Effective date
DEPARTMENT OF AGRICULTURE | Office of the Chief Financial Officer | Confidential Assistant | DA200125 | 09/11/2020
UNITED STATES AGENCY FOR GLOBAL MEDIA | United States Agency for Global Media | Special Assistant and Director of Executive Office Operations | IB200007 | 09/02/2020
|  | Principal Director of Public Affairs | IB200004 | 09/11/2020
|  | Principal Director Office of Contracts | IB200009 | 09/29/2020
DEPARTMENT OF COMMERCE | Office of International Trade Administration | Press Secretary | DC200181 | 09/21/2020
| National Oceanic and Atmospheric Administration | Deputy Assistant Secretary for Oceans and Atmosphere | DC200175 | 09/03/2020
| Office of the Chief Financial Officer and Assistant Secretary for Administration | Confidential Assistant Special Assistant | DC200147 DC200187 | 09/11/2020 09/21/2020
COMMISSION ON CIVIL RIGHTS | Office of the Commissioners | Special Assistant | CC200003 | 09/11/2020
COUNCIL ON ENVIRONMENTAL QUALITY | Council on Environmental Quality | Special Assistant | EQ200001 | 09/09/2020
DEPARTMENT OF DEFENSE | Office of the Assistant Secretary of Defense (Legislative Affairs) | Special Assistant | DD200240 | 09/03/2020
| Office of the Under Secretary of Defense (Acquisition and Sustainment) | Special Assistant | DD200271 | 09/26/2020
| Office of the Under Secretary of Defense (Comptroller) | Special Assistant | DD200266 | 09/29/2020
| Office of the Under Secretary of Defense (Personnel and Readiness) | Special Assistant | DD200247 | 09/11/2020
| Office of the Under Secretary of Defense (Policy) | Special Assistant | DD200255 | 09/10/2020
| Washington Headquarters Services | Defense Fellow | DD200269 | 09/21/2020
DEPARTMENT OF THE AIR FORCE | Office of the General Counsel Office of the Assistant Secretary Air Force, Installations, Environment, and Energy | Special Assistant Special Assistant (2) | DF200016 DF200014 | 09/18/2020 09/19/2020
|  |  | DF200017 | 09/30/2020
DEPARTMENT OF THE NAVY | Office of the Secretary of the Navy | Deputy Chief of Staff | DN200057 | 09/16/2020
DEPARTMENT OF EDUCATION | Office of Legislation and Congressional Affairs | Senior Advisor | DB200071 | 09/24/2020
DEPARTMENT OF ENERGY | Office of the Advanced Research Projects Agency—Energy | Deputy Chief of Staff | DE200191 | 09/26/2020
| Office of the Assistant Secretary for Environmental Management | Special Advisor for Communications (2) | DE200128 DE210003 | 09/19/2020 09/19/2020
| Office of the Assistant Secretary for International Affairs | Senior Advisor | DE200200 | 09/29/2020
| Office of Artificial Intelligence and Technology Office of Cybersecurity, Energy Security and Emergency Response | Chief of Staff Chief of Staff | DE200145 DE200197 | 09/19/2020 09/24/2020
| Office of Management | Special Assistant | DE200202 | 09/30/2020
| Office of Public Affairs | Press Secretary | DE200129 | 09/24/2020
| Office of the Secretary | Special Assistant | DE200196 | 09/24/2020
|  | White House Liaison | DE200198 | 09/24/2020
| Office of the Secretary of Energy Advisory Board | Deputy Director | DE200171 | 09/19/2020
ENVIRONMENTAL PROTECTION AGENCY | Office of Public Affairs Office of Public Engagement and Environmental Education | Special Advisor for Digital Media Deputy Associate Administrator for the Office of Public Engagement and Environmental Education | EP200100 EP200114 | 09/24/2020 09/24/2020
| Office of the Administrator | Special Advisor for Logistics | EP200066 | 09/16/2020
| Office of the Assistant Administrator for Land and Emergency Management | Senior Policy Advisor | EP200110 | 09/26/2020
| Office of the Associate Administrator for Congressional and Intergovernmental Relations | Special Advisor | EP200068 | 09/24/2020
GENERAL SERVICES ADMINISTRATION | Office of the Administrator | Deputy White House Liaison and Senior Advisor | GS200045 | 09/29/2020
DEPARTMENT OF HEALTH AND HUMAN SERVICES | Office of the Secretary | Special Assistant | DH200175 | 09/19/2020
DEPARTMENT OF HOMELAND SECURITY | Countering Weapons of Mass Destruction Office | Senior Advisor | DM200353 | 09/17/2020
| United States Customs and Border Protection | Deputy Press Secretary | DM200396 | 09/25/2020
| Office of Strategy, Policy, and Plans | Senior Advisor, National and Transnational Threats | DM200381 | 09/30/2020
DEPARTMENT OF HOUSING AND URBAN DEVELOPMENT | Office of the Deputy Secretary | Special Assistant | DU200153 | 09/03/2020
DEPARTMENT OF THE INTERIOR | Office of the Assistant Secretary—Indian Affairs | Assistant for Indian Affairs | DI200115 | 09/15/2020
| Bureau of Land Management | Senior Advisor, Bureau of Land Management | DI200062 | 09/15/2020
| Office of Congressional and Legislative Affairs | Senior Advisor | DI190078 | 09/03/2020
| Office of the Deputy Secretary | Advisor | DI200057 | 09/14/2020
| Secretary's Immediate Office | Advance Representative (2) | DI200058 | 09/03/2020
|  |  | DI200118 | 09/25/2020
|  | Special Assistant | DI200116 | 09/14/2020
|  | Press Assistant | DI200114 | 09/15/2020
| Office of United States Fish and Wildlife Service | Senior Advisor | DI200059 | 09/03/2020
DEPARTMENT OF JUSTICE | Office of Civil Rights Division | Senior Counsel | DJ200148 | 09/10/2020
| Office of Justice Programs | Policy Advisor | DJ200130 | 09/25/2020
DEPARTMENT OF LABOR | Office of the Solicitor | Counsel | DL200164 | 09/03/2020
| Office of Mine Safety and Health Administration | Chief of Staff | DL200173 | 09/10/2020
| Office of Wage and Hour Division | Special Assistant | DL200175 | 09/10/2020
OFFICE OF NATIONAL DRUG CONTROL POLICY | Office of the Director | Special Adviser White House Liaison and Advisor | QQ200009 QQ200010 | 09/24/2020 09/30/2020
SMALL BUSINESS ADMINISTRATION | Office of the Administrator | White House Liaison | SB200043 | 09/26/2020
DEPARTMENT OF TRANSPORTATION | Office of the Assistant Secretary for Governmental Affairs | Senior Advisor for Intergovernmental Affairs | DT200148 | 09/24/2020
|  | Governmental Affairs Officer | DT200134 | 09/26/2020
| Office of the Assistant Secretary for Transportation Policy | Public Liaison | DT200149 | 09/24/2020
| Office of the Deputy Secretary | Special Assistant for Advance Operations | DT200130 | 09/24/2020
| Office of the Secretary | White House Liaison | DT200151 | 09/26/2020
DEPARTMENT OF VETERANS AFFAIRS | Office of Public Affairs Office of the General Counsel | Press Secretary Special Assistant (Attorney Advisor) | DV200095 DV200104 | 09/29/2020 09/30/2020

There were no Schedule C appointing authorities revoked during September 2020.

Authority: 5 U.S.C. 3301 and 3302; E.O. 10577, 3 CFR, 1954-1958 Comp., p. 218.

Office of Personnel Management.
Alexys Stanley,
Regulatory Affairs Analyst.

[FR Doc. 2020-28506 Filed 12-23-20; 8:45 am]

BILLING CODE 6325-39-P